FEDERAL MARITIME COMMISSION

[CC-001]

Order Directing Mediterranean Shipping Company, S.A. To Show Cause: Mediterranean Shipping Company—Investigation for Compliance With Demurrage or Detention Charges Under the Charge Complaint Procedures

AGENCY: Federal Maritime Commission.

DATES: The order directing Mediterranean Shipping Company, S.A. to show cause was issued on February 3, 2023.

ACTION: Notice of Order of Directing Mediterranean Shipping Company, S.A. to show cause.

SUPPLEMENTARY INFORMATION: On February 3, 2023, the Federal Maritime Commission issued an Order Directing Mediterranean Shipping Company, S.A. (MSC) to show cause entitled Mediterranean Shipping Company—Investigation for Compliance with 46 U.S.C. 41104(a) and 41102 of Demurrage or Detention Charges Under the Charge Complaint Procedures of 46 U.S.C. 41310. Acting pursuant 46 U.S.C. 41310 and 46 CFR 502.91, this investigation is instituted to determine why MSC should not be ordered to refund or waive charges assessed or paid for failure to comply with 46 U.S.C. 41104(a) and 41102.

The Order may be viewed in its entirety at https://www2.fmc.gov/readingroom/proceeding/CC-001/.

(Authority: 46 U.S.C. 41310 and 46 CFR 502.91)

William Cody,
Secretary.

[FR Doc. 2023-02691 Filed 2-7-23; 8:45 am]

BILLING CODE 6730-02-P